DEPARTMENT OF COMMERCE

National Oceanic and Atmospheric Administration

RIN 0648-XD675

New England Fishery Management Council; Public Meeting

AGENCY: National Marine Fisheries Service (NMFS), National Oceanic and Atmospheric Administration, NOAA, Commerce.

ACTION: Notice; public meeting.

SUMMARY: The New England Fishery Management Council's (Council) Risk Policy Working Group will meet to consider actions affecting New England fisheries in the exclusive economic zone (EEZ).

DATES: The meeting will be held on Monday, February 9, 2014 at 9:30 a.m.

ADDRESSES:

Meeting Address: The meeting will be held at the Holiday Inn, 31 Hampshire Street, Mansfield, MA 02048; telephone: (508) 339-2200; fax: (508) 339-1040.

Council Address: New England Fishery Management Council, 50 Water Street, Mill 2, Newburyport, MA 01950.

FOR FURTHER INFORMATION CONTACT: Thomas A. Nies, Executive Director, New England Fishery Management Council; telephone: (978) 465-0492.

SUPPLEMENTARY INFORMATION: The items of discussion in the committee and advisory panel's agenda are:

The Risk Policy Working Group will discuss the implementation and application of the Council's Risk Policy across all Council-managed species; review updated matrix of “baseline conditions” for Council-managed species, i.e., how risk and uncertainty are currently addressed; discuss baseline conditions in the Atlantic herring fishery; review available information and begin to develop recommendations regarding the application of the Risk Policy in the Atlantic Herring FMP; discuss baseline conditions in the Atlantic sea scallop fishery; plan future work and address other business as necessary.

Although non-emergency issues not contained in this agenda may be discussed, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Thomas A. Nies (see ADDRESSES) at least 5 days prior to the meeting date.

Authority: 16 U.S.C. 1801 et seq.

Dated: January 14, 2015.
Tracey L. Thompson,
Acting Deputy Director, Office of Sustainable Fisheries, National Marine Fisheries Service.

[FR Doc. 2015-00757 Filed 1-16-15; 8:45 am]

BILLING CODE 3510-22-P